DEPARTMENT OF LABOR

Employment and Training Administration

[TA-W-62,740]

Tail Inc., Miami, FL; Notice of Termination of Investigation

Pursuant to Section 221 of the Trade Act of 1974, as amended, an investigation was initiated on January 18, 2008 in response to a worker petition filed by an authorized representative on behalf of workers at Tail Inc., Miami, Florida.

The petitioning group of workers is covered by an earlier petition (TA-W-62732) filed on January 24, 2008 that is the subject of an ongoing investigation for which a determination has not yet been issued. Further investigation in this case would duplicate efforts and serve no purpose; therefore the investigation under this petition has been terminated.

Signed at Washington, DC, this 12th day of February 2008.
Richard Church,
Certifying Officer, Division of Trade Adjustment Assistance.

[FR Doc. E8-3223 Filed 2-20-08; 8:45 am]

BILLING CODE 4510-FN-P